NATIONAL SCIENCE FOUNDATION

Advisory Committee for Engineering; Notice of Meeting

In accordance with the Federal Advisory Committee Act (Pub., L. 92-463, as amended), the National Science Foundation (NSF) announces the following meeting:

Name and Committee Code: Advisory Committee for Engineering (#1170) (Hybrid).

Date and Time: November 1, 2023; 10 a.m.-5:30 p.m. (eastern); November 2, 2023; 8 a.m.-12:45 p.m. (eastern).

Place: NSF, 2415 Eisenhower Avenue, Alexandria, VA 22314/Hybrid (In person and Virtual).

Additional meeting information, an updated agenda, and registration information will be posted at https://www.nsf.gov/eng/advisory.jsp.

Type of Meeting: Open.

Contact Persons: Don Millard, National Science Foundation, 2415 Eisenhower Avenue, Alexandria, VA 22314; Telephone: (703) 292-8300.

Purpose of Meeting: To provide advice, recommendations and counsel on major goals and policies pertaining to engineering programs and activities.

Agenda

Wednesday, November 1, 2023; 10 a.m.-5:30 p.m. (eastern)

• Directorate for Engineering Report

• NSF Budget Update

• Partnerships for a Resilient Planet: Opportunities in Clean Energy and Climate Change Adaptation and Mitigation

• Engineering PLUS Alliance

• Engineering Research Infrastructure

• Strategic Recommendations for ENG

• Preparation for Discussion with the Director's Office

Thursday, November 2, 2023; 8 a.m.-12:45 p.m. (eastern)

• Reports from Advisory Committee Liaisons

• Revolutionizing Engineering Departments

• Preparation for Discussion with the Director's Office

• Perspective from the Director's Office

• Strategic Recommendations for ENG

Dated: August 21, 2023.
Crystal Robinson,
Committee Management Officer.

[FR Doc. 2023-20828 Filed 9-25-23; 8:45 am]

BILLING CODE 7555-01-P